DEPARTMENT OF ENERGY

Federal Energy Regulatory Commission

Notice; Sunshine Act Meeting

April 28, 2004.

The following notice of meeting is published pursuant to section 3(A) of the Government in the Sunshine Act (Pub. L. 94-409), 5 U.S.C 552b:

Agency Holding Meeting: Federal Energy Regulatory Commission.

Date and Time: May 5, 2004, 10:30 a.m.

Place: Room 2C, 888 First Street, NE., Washington, DC 20426.

Status: Open.

Matters to be Considered: Agenda.* Note—Items listed on the agenda may be deleted without further notice.

Contact Person for More Information: Magalie R. Salas, Secretary, telephone (202) 502-8400. For a recording listing items stricken from or added to the meeting, call (202) 502-8627.

This is a list of matters to be considered by the Commission. It does not include a listing of all papers relevant to the items on the agenda; however, all public documents may be examined in the Reference and Information Center.

858th—Meeting May 5, 2004, Regular Meeting 10:30 a.m.

Administrative Agenda

A-1.

DOCKET# AD02-1,000, Agency Administrative Matters

A-2.

DOCKET# AD02-7,000, Customer Matters, Reliability, Security and Market Operations

A-3.

DOCKET# MO04-4,000, Regional Market Monitor State of Market Presentations

A-4.

DOCKET# PL03-3,004, Price Discovery in Natural Gas and Electric Markets

OTHER#S AD03-7,004, Natural Gas Price Formation

Markets, Tariffs and Rates—Electric

E-1.

OMITTED

E-2.

OMITTED

E-3.

DOCKET# EL03-236,000, PJM Interconnection L.L.C.

E-4.

OMITTED

E-5.

DOCKET# ER03-1102,002, California Independent System Operator Corporation

E-6.

DOCKET# EL01-118,003, Investigation of Terms and Conditions of Public Utility Market-Based Rate Authorizations

E-7.

DOCKET# ER04-608,000, PJM Interconnection, L.L.C.

E-8.

DOCKET# ER04-618,000, American Transmission Systems, Inc.

OTHER#S ER04-618,001, American Transmission Systems, Inc.

E-9.

DOCKET# ER04-632,000, California Independent System Operator Corporation

E-10.

DOCKET# ER04-623,000, New England Power Pool

E-11.

DOCKET# ER04-638,000, Entergy Services, Inc.

E-12.

DOCKET# ER04-377,001, Pacific Gas and Electric Company

OTHER#S ER04-377,000, Pacific Gas and Electric Company

ER04-743,000, Pacific Gas and Electric Company

E-13.

OMITTED

E-14.

DOCKET# ER04-158,000, Midwest Independent Transmission System Operator, Inc.

E-15.

OMITTED

E-16.

OMITTED

E-17.

DOCKET# ER04-652,000, FirstEnergy Solutions Corporation

E-18.

OMITTED

E-19.

DOCKET# ER03-1277,001, Midwest Independent Transmission System Operator, Inc.

OTHER#S ER03-1277,002, Midwest Independent Transmission System Operator, Inc.

E-20.

DOCKET# EC04-73,000, Midwest Generation, LLC, Nesbitt Asset

Recovery, Series C-1, Nesbitt Asset

Recovery, Series C-2, Nesbitt Asset

Recovery, Series C-3, Nesbitt Asset

Recovery, Series C-4

E-21.

DOCKET# EF03-2011,000, United States Department of Energy—Bonneville Power Administration

E-22.

DOCKET# ER03-631,002, ISO New England, Inc.

E-23.

DOCKET# ER03-793,001, New England Power Company

E-24.

DOCKET# EC03-27,002, California Independent System Operator Corporation

E-25.

DOCKET# ER03-836,001, New York Independent System Operator, Inc.

E-26.

OMITTED

E-27.

DOCKET# ER01-3034,004, Duke Energy Oakland, LLC

E-28.

OMITTED

E-29.

DOCKET# EL01-50,004, KeySpan-Ravenswood, Inc. v. New York Independent System Operator, Inc

E-30.

DOCKET# EC03-30,002, Illinois Power Company

OTHER#S ER03-284,003, Illinois Electric Transmission Company, LLC and Trans-Elect, Inc.

E-31.

DOCKET# PA02-2, et al., 016, Fact-Finding Investigation of Potential Manipulation of Electric and Natural Gas Prices

OTHER#S EL00-95, et al., 090, San Diego Gas & Electric Company v. Sellers of Energy and Ancillary Services Into Markets Operated by the California Independent Systems Operator and the California Power Exchange

EL00-98, et al., 077, Investigation of Practices of the California Independent System Operator Corporation and the California Power Exchange

EL03-137, et al., 003, American Electric Power Service Corporation,

EL03-180, et al., 002, Enron Power Marketing, Inc., and Enron Energy Services Inc., et al.,

E-32.

OMITTED

E-33.

OMITTED

E-34.

DOCKET# ER03-1223, 002, Montana Megawatts I, LLC and NorthWestern Energy Division of NorthWestern Corporation

OTHER#S ER03-1223, 001, Montana Megawatts I, LLC and NorthWestern Energy Division of NorthWestern Corporation

E-35.

OMITTED

E-36.

DOCKET# ER04-335, 001, New England Power Pool, ER04-335, 002, New England Power Pool

E-37.

DOCKET# ER04-230, 002, New York Independent System Operator, Inc.

E-38.

DOCKET# EL04-89, 000, Salmon River Electric Cooperative, Inc.

OTHER#S TS04-254, 000, Salmon River Electric Cooperative, Inc. ER04-630, 000, Salmon River Electric Cooperative, Inc., ER04-630, 001, Salmon River Electric Cooperative, Inc.

E-39.

DOCKET# EL02-45, 000, California Independent System Operator Corporation

E-40.

DOCKET# EL04-61, 000, Reliant Energy Choctaw County LLC v. Entergy Services, Inc.

E-41.

DOCKET# EL04-51, 000, InterGen Services, Inc. on behalf of Cottonwood Energy Company, LP v. Entergy Services, Inc., and Entergy Gulf States, Inc.

E-42.

DOCKET# ER97-2358, 006, Pacific Gas and Electric Company

OTHER#S ER97-2355, 012, Southern California Edison Company, ER97-2364, 007, San Diego Gas & Electric Company, ER97-4235, 006, San Diego Gas & Electric Company, ER98-497, 006, San Diego Gas & Electric Company, ER98-2322, 006, Southern California Edison Company, ER98-2351, 005, Pacific Gas and Electric Company, ER98-2371 004, San Diego Gas & Electric Company

E-43.

DOCKET# EL03-193, 000, Modesto Irrigation District

E-44.

DOCKET# EL04-77, 000, Southwest Transmission Cooperative, Inc.

E-45.

DOCKET# ER01-2998, 002, Pacific Gas and Electric Company

OTHER#S ER01-2998, 003, Pacific Gas and Electric Company, EL02-64, 002, Northern California Power Agency v. Pacific Gas and Electric Company and the California Independent System Operator Corporation, EL02-64, 003, Northern California Power Agency v. Pacific Gas and Electric Company and the California Independent System Operator, ER02-358, 002, Pacific Gas and Electric Company, ER02-358, 003, Pacific Gas and Electric Company

E-46.

OMITTED

E-47.

OMITTED

E-48.

DOCKET# EC04-77, 000, Exelon New England Holdings, LLC, Boston Generating, LLC and EBG Holdings, LLC

E-49.

DOCKET# ER04-108, 001, American Transmission Company LLC, and Midwest Independent Transmission System Operator, Inc.

E-50.

DOCKET# ER04-664, 000, Alabama Power Company

E-51.

DOCKET# EL02-6, 001, Dynegy Midwest Generation, Inc. and Dynegy Power Marketing, Inc. v. Commonwealth Edison Company

OTHER#S EL03-32, 001, Illinois Power Company

Markets, Tariffs and Rates—Gas

G-1.

DOCKET# RM03-10, 001, Amendments to Blanket Sales Certificates

G-2.

DOCKET# PR04-6, 000, Cranberry Pipeline Corporation

G-3.

OMITTED

G-4.

OMITTED

G-5.

DOCKET# RP00-409, 004, Natural Gas Pipeline Company of America

OTHER#S RP00-631, 005, Natural Gas Pipeline Company of America

G-6.

DOCKET# IS04-179, 000, Texaco Petrochemical Pipeline LLC

G-7.

DOCKET# RP03-545, 005, Dominion Cove Point LNG, LP

OTHER#S RP03-545, 004, Dominion Cove Point LNG, LP

G-8.

OMITTED

G-9.

DOCKET# CE04-63, 001, Mark Brady

G-10.

DOCKET# RP00-107, 004, Williston Basin Interstate Pipeline Company

OTHER#S RP00-107, 003, Williston Basin Interstate Pipeline Company

G-11.

DOCKET# RP92-137, 053, Transcontinental Gas Pipe Line Corporation

G-12.

DOCKET# RP02-309, 002, Sunoco, Inc. (R&M) v. Transcontinental Gas Pipe Line Corporation

G-13.

DOCKET# RP98-39, 035, Northern Natural Gas Company

G-14.

DOCKET# RP00-414, 003, Gas Transmission Northwest Corporation

OTHER#S RP01-15, 000, Gas Transmission Northwest Corporation, RP01-15, 004, Gas Transmission Northwest Corporation

G-15.

DOCKET# RP00-394, 000, KO Transmission Company

Energy Projects—Hydro

H-1.

DOCKET# P-460, 021, City of Tacoma, Washington

H-2.

DOCKET# P-2552, 065, FPL Energy Maine Hydro, LLC

H-3.

DOCKET# P-477, 024, Portland General Electric Company

H-4.

OMITTED

H-5.

DOCKET# P-4900, 071, Trafalgar Power, Inc.

Energy Projects—Certificates

C-1.

DOCKET# CP01-368, 004, Transcontinental Gas Pipe Line Corporation

OTHER#S CP01-369, 002, Williams Gas Processing-Gulf Coast Company, L.P.

C-2.

DOCKET# CP03-342, 000, Discovery Gas Transmission LLC,

OTHER#S CP03-342, 001, Discovery Gas Transmission LLC, CP03-343, 000, Discovery Producer Services LLC, CP03-343, 001, Discovery Producer Services LLC, CP04-50, 000, Texas Eastern Transmission, LP

C-3.

DOCKET# CP04-48, 000, Chandeleur Pipe Line Company

C-4.

DOCKET# CP01-67, 000, Southwest Gas Storage Company

C-5.

DOCKET# CP04-13, 000, Saltville Gas Storage Company, L.L.C.

OTHER#S CP04-14, 000, Saltville Gas Storage Company, L.L.C., CP04-15, 000, Saltville Gas Storage Company, L.L.C.

C-6.

DOCKET# CP88-105, 000, Yukon Pacific Company, L.P.

C-7.

DOCKET# CP04-105, 000, CMS Gas Transmission Company and Bluewater Gas Storage, L.L.C.

C-8.

DOCKET# CP04-31, 000, CenterPoint Energy Gas Transmission Company

C-9.

DOCKET# RP04-215, 000, Tennessee Gas Pipeline Company v. Columbia Gulf Transmission Company

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Magalie R. Salas,
Secretary.

[FR Doc. 04-10312 Filed 5-3-04; 11:31 am]

BILLING CODE 6717-01-P